DEPARTMENT OF DEFENSE

Department of the Army

[Docket ID: USA-2023-HQ-0018]

Proposed Collection; Comment Request

AGENCY: Department of the Army, Department of Defense (DoD).

ACTION: 60-Day information collection notice.

SUMMARY: In compliance with the Paperwork Reduction Act of 1995, the Department of the Army announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 20, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to United States Army Installation Management Command Headquarters, 2405 Gun Shed Road, Bldg. 2261 JBSA-Fort Sam Houston, TX 78234, ATTN: Mrs. Kelly Frank, or call 210-466-1200.

SUPPLEMENTARY INFORMATION:

Title; Associated Form; and OMB Number: Installation Management Command Survivor Outreach Service System (SOS IMCOM); OMB Control Number 0702-0148.

Needs and Uses: SOS is an Army-wide program that provides dedicated and comprehensive support services to all family members of soldiers who die while on active duty, including Regular Army, United States Army National Guard and Reserves patrons. SOS Support Coordinators serve as the main Survivor advocate. They facilitate support groups, provide life skills education, assist survivors in managing applicable life-long benefit transition milestones, connect survivors with counseling resources, and represent the command in contacts with community organizations. SOS Financial Counselors help survivors by assisting with budget counseling, debt management, education, and higher education needs. SOS staff members are required to make periodic communication with Survivors—at a minimum of one contact annually—to conduct well-being checks and milestone management reviews or determine the level of support Survivors desire. Information gathered in these meetings is input into the SOS application collection instrument by SOS staff members. No customers have access to the collection instrument. SOS staff members collect the information from the survivors and document the information as a direct contact within the SOS application case notes. The successful result of the information collection as a whole is an organized and up-to-date database of essential information on survivors that allows SOS to better provide the support they deserve.

Affected Public: Business or other for-profit; individuals or households.

Annual Burden Hours: 54,013.

Number of Respondents: 72,307.

Responses per Respondent: 2.49.

Annual Responses: 180,044.

Average Burden per Response: 18 minutes.

Frequency: On occasion.

Dated: December 15, 2023.
Aaron T. Siegel,
Alternate OSD Federal Register Liaison Officer, Department of Defense.

[FR Doc. 2023-28080 Filed 12-20-23; 8:45 am]

BILLING CODE 6001-FR-P